DEPARTMENT OF DEFENSE

Office of the Secretary

Science and Technology Reinvention Laboratory Personnel Management Demonstration Project, Department of the Air Force, Air Force Research Laboratory (AFRL)

AGENCY: Department of Defense; Office of the Deputy Under Secretary of Defense (Civilian Personnel Policy).

ACTION: Notice of amendment of the demonstration project plan.

SUMMARY: The National Defense Authorization Act for Fiscal Year 1995, as amended by section 1114 of the National Defense Authorization Act for Fiscal Year 2001, authorizes the Secretary of Defense to conduct personnel demonstration projects at Department of Defense (DoD) laboratories designated as Science and Technology (S&T) Reinvention Laboratories. The above-cited legislation authorizes DoD to conduct demonstration projects that experiment with new and different personnel management concepts to determine whether such changes in personnel policy or procedures would result in improved Federal personnel management.

This amendment revises the Air Force Research Laboratory (AFRL) demonstration project plan by changing from 180 days to 90 calendar days the amount of time required to be assessed under the Contribution-based Compensation System (CCS).

DATES: This amendment to the demonstration project may be implemented beginning on the date of publication of this notice in the Federal Register.

FOR FURTHER INFORMATION CONTACT: AFRL: Ms. Michelle Williams, AFRL/DPL, 1981 Monahan Way, Wright-Patterson AFB, Ohio 45433-5209. DoD: Ms. Patricia M. Stewart, CPMS-AF, 1400 Key Boulevard, Suite B-200, Arlington, VA 22209-5144.

SUPPLEMENTARY INFORMATION:

1. Background

The final plan was published in the Federal Register for the S&T Reinvention Laboratory personnel Management Demonstration Project at AFRL (Wednesday, November 27, 1996, Volume 61, Number 230, Part V, page 60400). An amendment to the final plan was published in the Federal Register as follows: To clarify which employees are subject to the extended probationary period; provide the contribution-based compensation system (CCS) bonus to eligible employees subject to the GS-15, step 10 pay cap; and change the name of broadband level descriptor “Cooperation and Supervision” and CCS Factor 6 “Cooperation and Supervision” to “Teamwork and Leadership” (Friday, January 21, 2000, Volume 65, Number 14, Part I, page 3498).

This demonstration project involves simplified job classification, two types of appointment authorities, an extended probationary period, pay banding, and CCS.

2. Overview

This amendment changes from 180 to 90 calendar days the amount of time required to be assessed under CCS. Experience has revealed that 180 days is unduly long and unnecessary for effective employee assessments under CCS.

I. Executive Summary

The Department of the Air Force established the AFRL personnel demonstration project to be generally similar to the system in use at the Department of the Navy personnel demonstration project known as China Lake. The AFRL demonstration project was built upon the concepts of a contribution-based compensation system, two appointing authorities, extended probationary period, simplified classification procedures delegated to the AFRL Commander, and pay banding.

II. Introduction

A. Purpose

The AFRL demonstration project provides managers, at the lowest practical level, the authority and flexibility needed to achieve a quality laboratory and quality products. the purpose of this amendment is to change the time an employee must be covered under the demonstration project from 180 to 90 calendar days in order to be assessed under CCS. Other basic provisions of the approved AFRL project plan are unchanged.

B. Employee Notification and Collective Bargaining Requirements

Employees affected by this amendment will be provided a copy of this notice. Participating organizations must fulfill any collective bargaining obligations to unions that represent employees covered by the demonstration.

III. Personnel System Changes

The AFRL demonstration project plan is amended as follows: Change section III.D.3., The CCS Assessment Process, (61 FR 60414) paragraph 5, second sentence to read: “If on October 1, the employee has served under CCS for less than 90 calendar days during the annual assessment cycle, the supervisor will wait for the subsequent annual cycle to assess the employee. Periods of approved, paid leave will be counted toward the 90-day time period.”

Dated: October 12, 2005.
L.M. Bynum,
Alternate OSD Federal Register Liaison Officer, Department of Defense.

[FR Doc. 05-20800 Filed 10-17-05; 8:45am]

BILLING CODE 5001-06-M